DEPARTMENT OF THE INTERIOR

National Park Service

[NPS-WASO-NAGPRA-18132; PPWOCRADN0-PCU00RP15.R50000]

Notice of Inventory Completion: Indiana Department of Natural Resources, Division of Historic Preservation and Archeology, Indianapolis, IN; Correction

AGENCY: National Park Service, Interior.

ACTION: Notice; correction.

SUMMARY: The Indiana Department of Natural Resources, Division of Historic Preservation and Archeology has corrected an inventory of human remains and associated funerary objects, published in a Notice of Inventory Completion in the Federal Register on August 30, 2013. This notice corrects the number of associated funerary objects. Lineal descendants or representatives of any Indian tribe or Native Hawaiian organization not identified in this notice that wish to request transfer of control of these associated funerary objects should submit a written request to the Indiana Department of Natural Resources, Division of Historic Preservation and Archeology. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Indiana Department of Natural Resources, Division of Historic Preservation and Archeology at the address in this notice by June 22, 2015.

ADDRESSES: Dr. Christopher W. Schmidt, University of Indianapolis, 1400 E. Hanna Avenue, Indianapolis, IN 46227, telephone (317) 788-2103.

SUPPLEMENTARY INFORMATION: Notice is here given in accordance with the Native American Graves Protection and Repatriation Act (NAGPRA), 25 U.S.C. 3003, of the correction of an inventory of human remains and associated funerary objects under the control of the Indiana Department of Natural Resources, Division of Historic Preservation and Archeology, Indianapolis, IN. The human remains and associated funerary objects were removed from Meyer Site, Spencer County, IN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (78 FR 53781, August 30, 2013). This correction comes after consultation with representatives from the Eastern Shawnee Tribe of Oklahoma; Miami Tribe of Oklahoma; and the Pokagon Band of the Potawatomi Indians, Michigan and Indiana. It was determined that all features from the Meyer site would be added to the inventory. Transfer of control of the items in this correction notice has not occurred.

Correction

In the Federal Register (78 FR 53781, August 30, 2013), paragraph 7, sentence 4 is corrected by substituting the following sentence:

The total number of associated funerary objects is 7,570.

In the Federal Register (78 FR 53781, August 30, 2013), paragraph 11, sentence 1 is corrected by substituting the following sentence:

Pursuant to 25 U.S.C. 3001(3)(A), the 7,570 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Dr. Christopher W. Schmidt, University of Indianapolis, 1400 E. Hanna Avenue, Indianapolis, IN 46227, telephone (317) 788-2103, by June 22, 2015. After that date, if no additional requestors have come forward, transfer of control of the associated funerary objects to Eastern Shawnee Tribe of Oklahoma; Miami Tribe of Oklahoma; and the Pokagon Band of the Potawatomi Indians, Michigan and Indiana may proceed.

The Indiana Department of Natural Resources, Division of Historic Preservation and Archeology is responsible for notifying the Eastern Shawnee Tribe of Oklahoma; Miami Tribe of Oklahoma; and the Pokagon Band of the Potawatomi Indians, Michigan and Indiana that this notice has been published.

Dated: April 14, 2014.
Mariah Soriano,
Acting Manager, National NAGPRA Program.

[FR Doc. 2015-12522 Filed 5-21-15; 8:45 am]

BILLING CODE 4312-50-P